DEPARTMENT OF THE INTERIOR

National Park Service

Notice of Inventory Completion: Northwest Museum of Arts & Culture, Spokane, WA

AGENCY: National Park Service, Interior.

ACTION: Notice.

Notice is here given in accordance with the Native American Graves Protection and Repatriation Act (NAGPRA), 25 U.S.C. 3003, of the completion of an inventory of human remains and associated funerary objects in the possession of the Northwest Museum of Arts & Culture, aka Eastern Washington State Historical Society, Spokane, WA. The human remains and associated funerary objects were removed from Lincoln, Ferry and Stevens Counties, WA.

This notice is published as part of the National Park Service's administrative responsibilities under NAGPRA, 25 U.S.C. 3003(d)(3). The determinations in this notice are the sole responsibility of the museum, institution, or Federal agency that has possession of the Native American human remains and associated funerary objects. The National Park Service is not responsible for the determinations in this notice.

A detailed assessment of the human remains was made by the Northwest Museum of Arts & Culture professional staff in consultation with representatives of the Confederated Tribes of the Colville Indian Reservation, Washington.

During the period July 1939 to September 1940, human remains and associated funerary objects were removed from seven different sites in Lincoln, Ferry and Stevens Counties, WA, encompassing a vast, 150-mile area. The human remains and associated funerary objects described below were excavated by Donald Collier, Alfred E. Hudson and Arlo Ford due to the construction of the Grand Coulee Dam and its reservoir (Lake Roosevelt), whose waters would soon cover the area. This undertaking was known as “The Columbian Basin Archaeological Survey” or the “Collier, Hudson, and Ford Project.” It was a multi-institutional venture involving the Eastern Washington State Historical Society (now Northwest Museum of Arts & Culture), University of Washington, and the State College of Washington (now Washington State University). It was also a multi-agency venture involving the Bureau of Reclamation, Bureau of Indian Affairs, Civilian Conservation Corps, and the Works Project Administration (including the National Youth Administration). In 1940, the Eastern Washington State Historical Society became the repository for the collection, as mandated by the Bureau of Reclamation. Portions of the land from which the human remains and associated funerary objects derive were non-Federal lands, and other portions were Federal lands at the time of removal. Moreover, the Federal lands fell under the management authority of several different agencies. Consequently, there has been a question of control over the collection. After several years of research, the Northwest Museum of Arts & Culture has been unable to determine additional specifics regarding the control of each site. Therefore, absent additional information, the Northwest Museum of Arts & Culture is assuming responsibility under NAGPRA with regard to publishing this Notice and repatriating the human remains and associated funerary objects to the culturally affiliated tribe.

From 1940 until 1951, the Northwest Museum of Arts & Culture was the repository for the recovered materials. On February 24, 1951, the museum agreed to loan the human remains to the Washington State Museum of the University of Washington for scientific study. According to letters substantiating the agreement, all the human remains borrowed by the University of Washington were returned to the museum on May 29, 1951, and were repatriated to the Confederated Tribes of the Colville Indian Reservation, Washington, in 1979. Unfortunately, the repatriation in 1979 was incomplete. In December 1994, the Thomas Burke Memorial Museum at the University of Washington (formerly Washington State Museum) informed the Northwest Museum of Arts & Culture that they had found five boxes of skeletal material thought to be related to the 1951 loan agreement. In addition, during the time between 1951 and 1995, the human remains were the subject of additional transfers to various institutions. However, the human remains were retrieved and returned to Northwest Museum of Arts & Culture between June 15, 1995 and November 5, 1995. This Notice includes the human remains and associated funerary objects from the seven sites currently in the collection of the Northwest Museum of Arts & Culture.

Human remains representing a minimum of nine individuals were removed from Site 2 (45-LI-27), opposite the mouth of the Sanpoil, in Lincoln County, WA. No known individuals were identified. The 11 associated funerary objects are 1 basalt piece, 1 bone awl, 1 unworked and worked cache form, 1 scraper, 1 pestle, 1 blade fragment, 1 piece of wood, 3 projectile points and 1 knife.

Human remains representing a minimum of nine individuals were removed from Site 7A (45-FE-7), in Ferry County, WA. No known individuals were identified. The eight associated funerary objects are two rusted iron fragments and six dentalia shell beads.

Human remains representing a minimum of nine individuals were removed from Site 7B (45-FE-7), a half mile up the bank of the Columbia from Site 7A, in Ferry County, WA. No known individuals were identified. The 52 associated funerary objects are 35 blue glass beads and 17 white glass beads.

Human remains representing a minimum of three individuals were removed from Site 13 (45-FE-13), in Ferry County, WA. No known individuals were identified. No associated funerary objects are present.

Human remains representing a minimum of one individual were removed from Site 21 (45-FE?-21, an unknown area, but most likely in Ferry County, WA. No known individual was identified. No associated funerary objects are present.

Human remains representing a minimum of 27 individuals were removed from Site 24 (45-FE-24), in Ferry County, WA. No known individuals were identified. The 497 associated funerary objects are 2 arrow shaft smoothers, 1 bone harpoon, 1 bone awl, 2 knives, 6 projectile points, 1 string of copper bone beads, 100 dentalia (11 of which are dentalia beads), 1 clam shell disc bead, 7 rolled copper beads, 1 hand maul, 4 bear penis bones, 2 gravers, 13 perforated elk teeth, 1 abalone gorget, 6 copper pendants, 5 worked bone fragments, 1 copper bracelet, 1 rectangular perforated copper plate, 52 olivellae, 2 antler digging sticks, 270 glass beads, 1 shell bead, 14 sets of wooden burial marker sacks and 3 sets of “fill-over burial” sacks.

Human remains representing a minimum of three individuals were removed from Site 31 (45-ST-31), one-quarter of a mile above the Gifford-Inchelium ferry landing, in Stevens County, WA. No known individuals were identified. No associated funerary objects are present.

Extensive historic documentation—original maps, journal entries, field notes, newspaper articles, professional journal publications, and Archaeology of the Upper Columbia Region, published by Donald Collier, Alfred E. Hudson, and Arlo Ford in 1942, and detailing their findings of the original excavation—and documented burial practices, associated funerary object typology (both pre and post-contact), and three in-depth osteological studies, all confirm that the human remains are Native American.

Based on the geographic location of the sites, the anthropological analyses of the human remains, such as dental attrition and cranial deformation, and structural remnants found at the sites (pit and earth ovens), it is determined that the human remains and associated funerary objects are representative of Plateau Native Culture. The seven sites fall within the traditional aboriginal territory of the bands of Indians (Wenatchee, Nespelem, Moses-Columbia, Colville, Okanagan, Palus, San Poil, Entiat, Chelan, Lake, and Chief Joseph's Band of the Nez Perce) that now comprise the Confederated Tribes of the Colville Indian Reservation, Washington, who were confederated in 1872. Further, the types of burial practices (i.e. pit inhumations and talus slopes) and funerary objects (including large amounts of copper), tribal oral tradition, and extensive historic documentation of the original excavation, all show that the human remains and associated funerary objects have direct ancestral ties to the bands of Indians that are now represented by the Confederated Tribes of the Colville Indian Reservation, Washington.

Officials of the Northwest Museum of Arts & Culture have determined that, pursuant to 25 U.S.C. 3001(9), the human remains described above represent the physical remains of 61 individuals of Native American ancestry. Officials of the Northwest Museum of Arts & Culture also have determined that, pursuant to 25 U.S.C. 3001(3)(A), the 568 objects described above are reasonably believed to have been placed with or near individual human remains at the time of death or later as part of the death rite or ceremony. Lastly, officials of the Northwest Museum of Arts & Culture have determined that, pursuant to 25 U.S.C. 3001(2), there is a relationship of shared group identity that can be reasonably traced between the Native American human remains and associated funerary objects and the Confederated Tribes of the Colville Indian Reservation, Washington.

Representatives of any other Indian tribe that believes itself to be culturally affiliated with the human remains and associated funerary objects should contact Mr. Michael Holloman, Northwest Museum of Arts & Culture, 2316 West First Ave., Spokane, WA 99201, telephone (509) 363-5337, before October 25, 2010. Repatriation of the human remains and associated funerary objects to the Confederated Tribes of the Colville Indian Reservation, Washington, may proceed after that date if no additional claimants come forward.

The Northwest Museum of Arts & Culture is responsible for notifying the Confederated Tribes of the Colville Indian Reservation, Washington, that this notice has been published.

Dated: September 10, 2010.
Sherry Hutt,
Manager, National NAGPRA Program.

[FR Doc. 2010-23926 Filed 9-23-10; 8:45 am]

BILLING CODE 4312-50-P